DEPARTMENT OF TRANSPORTATION

Federal Transit Administration

Summary of Fiscal Year 2018 Grants for Buses and Bus Facilities Infrastructure Investment Program Project Selections

AGENCY: Federal Transit Administration (FTA), DOT.

ACTION: Notice; summary of project selections. Grants for Buses and Bus Facilities Infrastructure Investment Program.

SUMMARY: The U.S. Department of Transportation's (DOT) Federal Transit Administration (FTA) summarizes the allocation of $366,162,440 to projects under the Fiscal Year (FY) 2018 Grants for Buses and Bus Facilities Infrastructure Investment Program (Bus Program) and provides administrative guidance on award management.

FOR FURTHER INFORMATION CONTACT: Successful applicants should contact the appropriate FTA Regional Office for information regarding applying for the funds or program-specific information. A list of Regional Offices can be found at www.fta.dot.gov. Unsuccessful applicants may contact Mark G. Bathrick, Office of Program Management at (202) 366-9955, email: Mark.Bathrick @dot.gov, to arrange a proposal debriefing within 30 days of this notice. A TDD is available at 1-800-877-8339 (TDD/FIRS).

SUPPLEMENTARY INFORMATION: The competitive funding allocations announced in this notice are authorized by Section 5339(b) of Title 49, United States Code. Federal public transportation law at 49 U.S.C. 5338(a)(2)(M) authorizes $246,514,000 million for competitive allocations in FY 2018. The Consolidated Appropriations Act, 2018 appropriated an additional $161,446,000 for the Bus Program for FY 2018. After the statutory set aside for oversight, $366,293,150 was available for competitive grants under the Bus Program.

On June 21, 2018, FTA published a Notice of Funding Opportunity (NOFO) announcing the availability of $366,293,150 in competitive funding under the Bus Program. These funds will provide financial assistance to states and eligible public agencies to replace, rehabilitate, purchase, or lease buses, vans, and related equipment, and capital projects to rehabilitate, purchase, construct, or lease bus-related facilities. In response to the NOFO, FTA received 339 project proposals from 51 States and territories requesting approximately $2 billion in Federal funds. Project proposals were evaluated based on each applicant's responsiveness to the program evaluation criteria outlined in the NOFO.

Based on the criteria in the NOFO, FTA is funding 107 projects, as shown in Table 1, for a total of $366,162,440. Recipients selected for competitive funding are required to work with their FTA Regional Office to submit a grant application in FTA's Transit Award Management System (TrAMs) for the projects identified in the attached table. Grant applications must include only eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients also may provide additional local funds to complete a proposed project. A discretionary project identification number has been assigned to each project for tracking purposes and must be used in the TrAMs application.

Selected projects are eligible to incur costs under pre-award authority no earlier than the date projects were publicly announced, which was September 25, 2018. Pre-award authority does not guarantee that project expenses incurred prior to the award of a grant will be eligible for reimbursement, as eligibility for reimbursement is contingent upon other requirements, such as planning and environmental requirements, having been met. For more about FTA's policy on pre-award authority, please see the FTA Fiscal Year 2018 Apportionments, Allocations, and Program Information and Interim Guidance found in 83 FR 33018 (July 16, 2018). Post-award reporting requirements include submission of the Federal Financial Report and Milestone progress reports in TrAMs (see FTA.C.5010.1E). Recipients must comply with all applicable Federal statutes, regulations, executive orders, FTA circulars, and other Federal requirements in carrying out the project supported by the FTA grant. FTA emphasizes that recipients must follow all third-party procurement guidance as authorized by 49 U.S.C. 5325(a) and described in FTA.C.4220.1F. Funds allocated in this announcement must be obligated in a grant by September 30, 2021.

Technical Review and Evaluation Summary: FTA assessed all project proposals that were submitted under the FY 2018 Bus Program competition according to the following evaluation criteria. The specific metrics for each criterion were described in the June 21, 2018 NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories overall, with no Not Recommended ratings. Projects were assigned a final overall rating of Recommended if the project had three or more Recommended ratings and no Not Recommended ratings. Projects were assigned a rating of Not Recommended if they received a Not Recommended rating in any category. A summary of the overall scores is shown in the table below.

Overall Project Ratings (eligible submissions):

Highly Recommended | 201
Recommended | 74
Not Recommended | 64
Total | 339

As outlined in the NOFO, FTA made the final selections based on the technical ratings as well geographic diversity, Departmental objectives, and/or receipt of other recent competitive awards. As further outlined in the NOFO, in some cases, due to funding limitations, proposers that were selected for funding received less than the amount originally requested.

Issued in Washington, DC.
K. Jane Williams,
Acting Administrator.

Table 1—FY 18 Grants for Buses and Bus Facilities Competition Project Selections
State | Applicant | Project ID | Project title | Funded amount | Overall rating
AK | Municipality of Anchorage | D2018-BUSC-132 | The Municipality of Anchorage, Alaska will receive funding to Implement a new Information Technology System (ITS) for the Public Transportation Department (PTD) in Anchorage, Alaska | $4,250,000 | Recommended.
AL | Alabama A&M University | D2018-BUSC-133 | The Alabama A&M University will receive funding to purchase electric buses, construct a bus storage facility, purchase and install bus shelters, and acquire ITS | 3,761,033 | Highly Recommended.
AR | Ozark Regional Transit | D2018-BUSC-134 | Ozark Regional Transit will receive funding to replace their Operations Center | 2,900,000 | Highly Recommended.
AZ | City of Phoenix | D2018-BUSC-135 | The City of Phoenix will receive funding to replace buses that have exceeded their useful life | 6,393,630 | Highly Recommended.
CA | City of Fresno | D2018-BUSC-136 | The City of Fresno will receive funding to rehabilitate the Fresno Area Express fixed route maintenance and operations facility | 1,004,973 | Highly Recommended.
CA | City of Los Angeles, Department of Transportation | D2018-BUSC-137 | The City of Los Angeles, Department of Transportation will receive funding to help with the electrification of LADOT bus maintenance facilities to support an electric bus fleet | 3,215,977 | Highly Recommended.
CA | City of Norwalk | D2018-BUSC-138 | The City of Norwalk will receive funding to purchase zero emission buses, and chargers for expansion | 986,928 | Highly Recommended.
CA | City of Roseville | D2018-BUSC-139 | The City of Roseville will receive funding to replace commuter buses with zero-emission buses | 826,377 | Highly Recommended.
CA | City of Santa Rosa | D2018-BUSC-140 | The City of Santa Rosa will receive funding to purchase zero emission buses | 1,780,133 | Highly Recommended.
CA | City of Visalia | D2018-BUSC-141 | City of Visalia will receive funding to purchase new buses | 569,595 | Highly Recommended.
CA | Los Angeles County Metropolitan Transportation Authority | D2018-BUSC-142 | The Los Angeles County Metropolitan Transportation Authority will receive funding to replace diesel buses with CNG buses in Los Angeles County | 5,457,098 | Highly Recommended.
CA | San Diego Metropolitan Transit System | D2018-BUSC-143 | The San Diego Metropolitan Transit System will receive funding to upgrade bus CAD/AVL and radio network hardware | 3,923,122 | Highly Recommended.
CA | San Francisco Municipal Transportation Agency (SFMTA) | D2018-BUSC-144 | The San Francisco Municipal Transportation Agency will receive funding to modernize the Woods Bus Maintenance Facility | 3,617,415 | Highly Recommended.
CA | San Luis Obispo Regional Transit Authority | D2018-BUSC-145 | San Luis Obispo Region Transit Authority will receive funding for a new bus maintenance facility | 6,285,662 | Highly Recommended.
CA | Victor Valley Transit Authority | D2018-BUSC-146 | Victor Valley Transit Authority will receive funding to replace CNG buses with electric buses | 867,007 | Highly Recommended.
CA | State of California Department of Transportation | D2018-BUSC-147 | The State of California Department of Transportation will receive funding to replace and expand vehicles for accessible transportation services | 312,027 | Highly Recommended.
CA | State of California Department of Transportation | D2018-BUSC-148 | The State of California Department of Transportation on behalf of Eastern Sierra Transit Authority will receive funding to build a new operations and administrative facility | 457,139 | Highly Recommended.
CO | City of Fort Collins | D2018-BUSC-149 | The City of Fort Collins will receive funding to replace and expand bus stops throughout the bus system | 1,520,344 | Highly Recommended.
CO | Regional Transportation District | D2018-BUSC-150 | The Regional Transportation District will receive funding to purchase replacement buses | 7,497,000 | Highly Recommended.
CO | Regional Transportation District | D2018-BUSC-151 | The Regional Transportation District will receive funding to replace roofs on existing maintenance facilities | 3,503,000 | Highly Recommended.
CO | State of Colorado Department of Transportation | D2018-BUSC-152 | The State of Colorado on behalf of Durango Transit will receive funding to replace vehicles | 211,200 | Highly Recommended.
CO | State of Colorado Department of Transportation | D2018-BUSC-153 | The State of Colorado on behalf of Roaring Fork Transportation Authority will receive funding to replace buses | 2,231,500 | Highly Recommended.
CO | State of Colorado Department of Transportation | D2018-BUSC-154 | The State of Colorado on behalf of Steamboat Springs Transit will receive funding to replace buses | 536,000 | Highly Recommended.
CO | Mesa County | D2018-BUSC-155 | Mesa County on behalf of Grand Valley Transit will receive funding for bus replacements | 392,000 | Highly Recommended.
CT | Connecticut Department of Transportation | D2018-BUSC-156 | The Connecticut Department of Transportation will receive funding to rehabilitate the Hartford maintenance facility | 7,000,000 | Highly Recommended.
DC | Washington Metropolitan Area Transit Authority | D2018-BUSC-157 | The Washington Metropolitan Area Transit Authority will receive funding to replace CNG buses in the fleet | 4,250,000 | Recommended.
DE | Delaware Transit Corporation | D2018-BUSC-158 | The Delaware Transit Corporation will receive funding to expand the New Castle County Bus Facility | 3,385,600 | Recommended.
FL | Miami Dade County | D2018-BUSC-159 | Miami Dade County will receive funding to replace diesel buses with CNG buses throughout the fleet | 11,000,000 | Highly Recommended.
GA | Georgia Department of Transportation | D2018-BUSC-160 | The Georgia Department of Transportation on behalf of the City of Albany will receive funding to replace buses and fund a transit center | 4,250,000 | Recommended.
IA | City of Dubuque | D2018-BUSC-161 | The City of Dubuque will receive funding to purchase ADA vehicles and install a new farebox system | 1,939,672 | Highly Recommended.
IA | Iowa Department of Transportation | D2018-BUSC-162 | The Iowa Department of Transportation will receive funding to replace rural buses throughout the State | 7,000,000 | Highly Recommended.
ID | Idaho Transportation Department | D2018-BUSC-163 | The Idaho Transportation Department on behalf of the City of Driggs will receive funding to construct passenger shelters and bus pullouts | 192,000 | Highly Recommended.
ID | Nez Perce Tribe | D2018-BUSC-164 | The Nez Perce Tribe will receive funding to purchase new buses and install new bus bay doors on their facility | 96,300 | Highly Recommended.
IL | Bloomington-Normal Public Transportation System | D2018-BUSC-165 | The Bloomington-Normal Public Transportation System will receive funding to purchase battery electric replacement buses | 6,000,000 | Highly Recommended.
IL | City of Decatur | D2018-BUSC-166 | The City of Decatur will receive funding to purchase new buses | 4,662,000 | Highly Recommended.
IL | Illinois Department of Transportation | D2018-BUSC-167 | The Illinois Department of Transportation will receive funding for the Galesburg/Macomb Fixed Route Bus Replacement and Quincy Bus Facility Rehabilitation Projects | 2,285,000 | Highly Recommended.
IN | South Bend Public Transportation Corporation | D2018-BUSC-168 | The South Bend Public Transportation Corporation will receive funding to replace buses that operate on their fixed route service | 4,910,748 | Highly Recommended.
IN | Bloomington Public Transportation Corporation | D2018-BUSC-169 | The Bloomington Public Transportation Corporation will receive funding to purchase new electric buses and associated charging infrastructure | 357,524 | Highly Recommended.
KS | Topeka Metropolitan Transit Authority | D2018-BUSC-170 | The Topeka Metropolitan Transit Authority will receive funding to purchase new ITS equipment | 503,120 | Recommended.
KY | Kentucky Transportation Cabinet | D2018-BUSC-171 | The Kentucky Transportation Cabinet will receive funds on behalf of 19 transit agencies to expand & replace vehicles, construct and renovate bus facilities, and purchase associated bus equipment | 7,000,000 | Highly Recommended.
LA | New Orleans Regional Transit Authority | D2018-BUSC-172 | The New Orleans Regional Transit Authority will receive funding to expand their biodiesel bus fleet | 6,392,000 | Highly Recommended.
MA | Pioneer Valley Transit Authority | D2018-BUSC-173 | The Pioneer Valley Transit Authority will receive funding to rehabilitate and convert their Fixed-Route Bus Maintenance Garage to a Paratransit Facility | 2,400,000 | Highly Recommended.
MD | Montgomery County Government | D2018-BUSC-174 | Montgomery County will receive funding to replace diesel buses with electric buses | 4,365,000 | Highly Recommended.
ME | City of Bangor | D2018-BUSC-175 | The City of Bangor will receive funding to replace buses operating on the city's fixed route | 2,890,000 | Highly Recommended.
ME | Maine Department of Transportation | D2018-BUSC-176 | The Maine Department of Transportation will receive funding to replace rural buses throughout the State | 2,201,370 | Highly Recommended.
MI | Capital Area Transportation Authority | D2018-BUSC-177 | The Capital Area Transportation Authority will receive funding to replace buses throughout the fleet | 3,155,380 | Highly Recommended.
MI | Central County Transportation Authority | D2018-BUSC-178 | The Central County Transportation Authority will receive funding to replace buses throughout the fleet | 2,808,797 | Highly Recommended.
MI | City of Detroit Department of Transportation | D2018-BUSC-179 | The City of Detroit will receive funding to rehabilitate the Coolidge Terminal and Maintenance Facility | 9,536,038 | Highly Recommended.
MI | Michigan Department of Transportation | D2018-BUSC-180 | The Michigan Department of Transportation will receive funding to replace vehicles for 47 rural agencies and provide expansion vehicles for five rural agencies | 9,536,038 | Highly Recommended.
MI | Michigan Department of Transportation | D2018-BUSC-181 | The Michigan Department of Transportation will receive funding for replacement and expansion vehicles for three small urban transit agencies | 4,267,199 | Highly Recommended.
MN | Metropolitan Council/Metro Transit | D2018-BUSC-182 | The Metropolitan Council/Metro Transit will receive funding to construct the new Heywood II Bus Garage (Minneapolis Bus Garage) | 11,000,000 | Highly Recommended.
MO | Missouri Department of Transportation | D2018-BUSC-183 | The Missouri Department of Transportation will receive funding to purchase transit buses and vans for rural public transportation, as well as, technological upgrades for new and existing vehicles | 5,630,565 | Highly Recommended.
MP | Office of the Governor—COTA | D2018-BUSC-184 | The Office of the Governor of the Commonwealth of the Northern Mariana Islands, on behalf of the Commonwealth Office of Transit Authority (COTA) will receive funding to construct an administrative and maintenance facility, purchase buses for their new fixed route service, and construct bus shelters | 6,387,346 | Highly Recommended.
MS | Mississippi Band of Choctaw Indians | D2018-BUSC-185 | The Mississippi Band of Choctaw Indians will receive funding to purchase replacement and expansions vehicles | 857,700 | Highly Recommended.
MT | City of Billings | D2018-BUSC-186 | The City of Billings will receive funding to purchase replacement buses and associated equipment | 1,360,000 | Highly Recommended.
MT | Northern Cheyenne Tribe of the Northern Cheyenne Indian Reservation | D2018-BUSC-187 | The Northern Cheyenne Tribe of the Northern Cheyenne Indian Reservation will receive funding to construct a new transit facility | 2,765,664 | Highly Recommended.
MT | Confederated Salish & Kootenai Tribes | D2018-BUSC-188 | The Confederated Salish & Kootenai Tribes will receive funding to purchase new ADA vehicles and bus shelters | 328,040 | Highly Recommended.
NC | City of Charlotte | D2018-BUSC-189 | The City of Charlotte will receive funding to purchase replacement buses | 5,932,800 | Highly Recommended.
NC | City of Durham | D2018-BUSC-190 | The City of Durham will receive funding to replace diesel buses with electric buses | 2,125,000 | Highly Recommended.
ND | North Dakota Department of Transportation | D2018-BUSC-191 | The North Dakota Department of Transportation will receive funding to replace rural transit vehicles throughout the State | 3,772,000 | Highly Recommended.
ND | City of Bismarck | D2018-BUSC-192 | The City of Bismarck will receive funding to rehabilitate an existing bus facility | 96,000 | Recommended.
NE | The Transit Authority of the City of Omaha d/b/a/ Metro | D2018-BUSC-193 | The Transit Authority of the City of Omaha will receive funding to purchase associated infrastructure for CNG and electric buses | 6,685,000 | Highly Recommended.
NH | Manchester Transit Authority | D2018-BUSC-194 | The Manchester Transit Authority will receive funding to purchase replacement buses for their fleet | 934,723 | Highly Recommended.
NJ | NJ Transit | D2018-BUSC-195 | NJ Transit will receive funding to purchase bus lifts across the State | 7,000,000 | Highly Recommended.
NM | City of Las Cruces | D2018-BUSC-196 | The City of Las Cruces will receive funding to construct a new transit maintenance and operations center | 11,000,000 | Highly Recommended.
NV | Pyramid Lake Paiute Tribe | D2018-BUSC-197 | The Pyramid Lake Paiute Tribe will receive funding to purchase new buses and rehabilitate existing buses | 188,760 | Highly Recommended.
NY | Capital District Transportation Authority | D2018-BUSC-198 | The Capital District Transportation Authority will receive funding to construct the River Corridor Bus Rapid Transit System (BRT), which includes the purchase of vehicles, construction of stops, and other associated improvements | 5,000,000 | Highly Recommended.
NY | Niagara Frontier Transportation Authority | D2018-BUSC-199 | The Niagara Frontier Transportation Authority will receive funding to purchase CNG buses | 11,000,000 | Highly Recommended.
NY | Rochester Genesee Regional Transportation Authority | D2018-BUSC-200 | The Rochester Genesee Regional Transportation Authority will receive funding to construct a new maintenance facility | 2,000,000 | Highly Recommended.
OH | Greater Dayton Regional Transit Authority | D2018-BUSC-201 | Greater Dayton Regional Transit Authority will receive funding to replace diesel buses with electric buses | 5,725,000 | Highly Recommended.
OH | Portage Area Regional Transportation Authority | D2018-BUSC-202 | The Portage Area Regional Transportation Authority will receive funding to make the bus wash system CNG compliant | 165,330 | Highly Recommended.
OH | Southwest Ohio Regional Transit Authority (SORTA) | D2018-BUSC-203 | The Southwest Ohio Regional Transit Authority (SORTA) will receive funding to rehabilitate the Silverton Access/“Fare Deal” Customer Facility | 180,000 | Recommended.
OK | Oklahoma Department of Transportation | D2018-BUSC-204 | The Oklahoma Department of Transportation will receive funding to purchase replacement and expansion vehicles throughout the State | 3,874,200 | Highly Recommended.
OK | Oklahoma Department of Transportation | D2018-BUSC-205 | The Oklahoma Department of Transportation will receive funding to rehabilitate rural bus facilities throughout the State | 407,596 | Recommended.
OR | Oregon Department of Transportation | D2018-BUSC-206 | The Oregon Department of Transportation on behalf of Yamhill County Transit will receive funding to replace buses | 960,090 | Highly Recommended.
OR | Oregon Department of Transportation | D2018-BUSC-207 | The Oregon Department of Transportation on behalf of Benton County will receive funding to purchase new ADA buses | 198,900 | Highly Recommended.
OR | Oregon Department of Transportation | D2018-BUSC-208 | The Oregon Department of Transportation on behalf of Canby Area Transit will receive funding to replace buses | 352,000 | Highly Recommended.
OR | Oregon Department of Transportation | D2018-BUSC-209 | The Oregon Department of Transportation on behalf of Curry County will receive funding to purchase a bus and a van | 131,000 | Recommended.
OR | Oregon Department of Transportation | D2018-BUSC-210 | The Oregon Department of Transportation on behalf of Mid-Columbia Economic Development District (MCEDD) will receive funding to purchase a bus | 68,000 | Recommended.
PA | Pennsylvania Department of Transportation | D2018-BUSC-211 | The Pennsylvania Department of Transportation will receive funding for the Pennsylvania Fixed Route Intelligent Transportation System (FRITS) Project | 7,000,000 | Highly Recommended.
RI | Rhode Island Public Transit Authority | D2018-BUSC-212 | The Rhode Island Public Transit Authority will receive funding for the Chafee Maintenance Facility Modernization Project | 3,280,000 | Recommended.
SC | Greenville Transit Authority | D2018-BUSC-213 | The Greenville Transit Authority (GTA) will receive funding for a new transit facility | 11,000,000 | Highly Recommended.
SD | Oglala Sioux Tribe | D2018-BUSC-214 | The Oglala Sioux Tribe will receive funding to purchase accessible transit vehicles equipped with ITS technology | 262,200 | Highly Recommended.
SD | SD Department Of Transportation | D2018-BUSC-215 | The South Dakota Department of Transportation will receive funding for the Highmore Transit Facility | 400,000 | Highly Recommended.
SD | SD Department Of Transportation | D2018-BUSC-216 | The South Dakota Department of Transportation will receive funding for the River Cities Public Transit Call Center | 160,000 | Recommended.
SD | SD Department Of Transportation | D2018-BUSC-217 | The South Dakota Department of Transportation on behalf of Prairie Hill Transit and River Cities Transit will receive funding for snow removal equipment | 80,000 | Recommended.
SD | SD Department Of Transportation | D2018-BUSC-218 | The South Dakota Department of Transportation will receive funding for the Yankton Transit Facility | 350,000 | Recommended.
TN | Nashville Metropolitan Transit Authority | D2018-BUSC-219 | The Nashville Metropolitan Transit Authority will receive funding to replace buses throughout the fleet | 9,028,800 | Highly Recommended.
TX | City of Wichita Falls | D2018-BUSC-220 | The City of Wichita Falls will receive funding for a bus administrative and maintenance facility for the Wichita Falls Transit System and SHARP Lines Rural Transportation | 9,864,858 | Highly Recommended.
TX | City Transit Management Company Inc. for City of Lubbock | D2018-BUSC-221 | The City Transit Management Company Inc. for City of Lubbock will receive funding for the purchase of new buses | 2,500,000 | Highly Recommended.
TX | Lower Rio Grande Valley Development Council | D2018-BUSC-222 | The Lower Rio Grande Valley Development Council will receive funding for new bus passenger shelters | 661,342 | Highly Recommended.
TX | VIA Metropolitan Transit | D2018-BUSC-223 | VIA Metropolitan Transit will receive funding for their paratransit operating and maintenance facility | 6,000,000 | Highly Recommended.
TX | Texas Department of Transportation | D2018-BUSC-224 | The Texas Department of Transportation will receive funding to purchase buses for 35 rural transit providers throughout the State | 7,000,000 | Highly Recommended.
UT | Utah Transit Authority | D2018-BUSC-225 | The Utah Transit Authority will receive funding for the construction of the Depot District Clean Fuel Technology Center (DDTC) | 11,000,000 | Highly Recommended.
VT | Vermont Agency of Transportation | D2018-BUSC-226 | The Vermont Agency for Transportation will receive funding for the Bradford Vermont Public Transit Facility | 2,080,000 | Highly Recommended.
WA | Intercity Transit | D2018-BUSC-227 | Intercity Transit will receive funding for the Pattison Street Facility Renovation and Expansion Project—Phase II | 9,703,001 | Highly Recommended.
WA | Sauk-Suiattle Indian Tribe | D2018-BUSC-228 | The Sauk-Suiattle Indian Tribe will receive funding to purchase new buses and bus shelters | 170,000 | Highly Recommended.
WA | Washington State Department of Transportation | D2018-BUSC-229 | The Washington State Department of Transportation on behalf of the Mason County Public Transportation Benefit Area will receive funding to purchase hybrid buses to replace diesel buses | 1,482,690 | Highly Recommended.
WA | Kalispel Indian Community of the Kalispel Reservation | D2018-BUSC-230 | The Kalispel Indian Community of the Kalispel Reservation will receive funding to purchase an expansion bus | 115,960 | Highly Recommended.
WA | Washington State Department of Transportation | D2018-BUSC-231 | The Washington State Department of Transportation will receive funding to deploy low emission vehicles in rural Columbia County | 176,000 | Highly Recommended.
WA | Washington State Department of Transportation | D2018-BUSC-232 | The Washington State Department of Transportation will receive funding to deploy lower-emission propane powered vehicles in rural Island County | 940,430 | Highly Recommended.
WI | City of Appleton, Valley Transit | D2018-BUSC-233 | The City of Appleton, Valley Transit will receive funding for their bus replacement project | 4,000,000 | Highly Recommended.
WI | City of Janesville | D2018-BUSC-234 | The City of Janesville will receive funding for the purchase of replacement buses | 2,000,000 | Highly Recommended.
WI | Wisconsin Department of Transportation | D2018-BUSC-235 | The Wisconsin Department of Transportation (WisDOT) will receive funding to purchase new buses for rural transit providers across the State | 5,142,500 | Highly Recommended.
WI | Menominee Indian Tribe of Wisconsin | D2018-BUSC-236 | The Menominee Indian Tribe of Wisconsin will receive funding to purchase new buses | 180,000 | Recommended.
WV | West Virginia Division of Public Transit | D2018-BUSC-237 | The West Virginia Division of Public Transit will receive funding for rural buses | 182,400 | Highly Recommended.
WY | Wyoming Department of Transportation | D2018-BUSC-238 | The Wyoming Department of Transportation will receive funding for the Sheridan, Wyoming Public Transportation Bus Replacement Project for Goose Creek Transit | 393,600 | Highly Recommended.
Total |  |  |  | 366,162,440 |

[FR Doc. 2019-04113 Filed 3-6-19; 8:45 am]

BILLING CODE P